DEPARTMENT OF DEFENSE

Defense Acquisition Regulations System

48 CFR Parts 225 and 252

[Docket DARS-2019-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective April 1, 2019.

FOR FURTHER INFORMATION CONTACT: Ms. Jennifer L. Hawes, Defense Acquisition Regulations System, OUSD(A&S)DPC(DARS), Room 3B941, 3060 Defense Pentagon, Washington, DC 20301-3060. Telephone 571-372-6115; facsimile 571-372-6094.

SUPPLEMENTARY INFORMATION: This final rule amends the DFARS as follows:

1. Corrects titles to four clauses at 225.7703-4 to remove the word “Act”.

2. Corrects DFARS clause 252.204-7007, Alternate A, Annual Representations and Certifications, to remove the representation at paragraph (d)(1)(iii) for DFARS 252.222-7007, Representation Regarding Combating Trafficking in Persons. DFARS final rule 2018-D003 (83 FR 24887) on May 30, 2018, removed representation 252.222-7007 from the DFARS; however, the cross-reference in DFARS 252.204-7007 to the representation was inadvertently omitted.

3. Corrects DFARS provision 252.225-7035, Buy American—Free Trade Agreements—Balance of Payments Program Certificate, Alternate V, in paragraph (a), by revising the reference to the “Buy American Act” by removing the word “Act”.

List of Subjects in 48 CFR Parts 225 and 252

Government procurement.

Jennifer Lee Hawes,
Regulatory Control Officer, Defense Acquisition Regulations System.

Therefore, 48 CFR parts 225 and 252 are amended as follows:

1. The authority citations for parts 225 and 252 continue to read as follows:

Authority: 41 U.S.C. 1303 and 48 CFR chapter 1.

PART 225—FOREIGN ACQUISITION

225.7703-4 [Amended]

2. Amend section 225.7703-4 by removing, in paragraphs (f)(1), (f)(2), (f)(4), and (f)(5), “Buy American Act” and adding “Buy American” in each place.

PART 252—SOLICITATION PROVISIONS AND CONTRACT CLAUSES

252.204-7007 [Amended]

3. Amend section 252.204-7007 by-

a. Removing the clause date “(DEC 2018)” and adding “(APR 2019)” in its place;

b. Removing paragraph (d)(1)(iii); and

c. Redesignating paragraphs (d)(1)(iv) through (ix) as (d)(1)(iii) through (viii).

252.225-7035 [Amended]

4. Amend section 252.225-7035, Alternate V, by-

a. Removing the clause date “(NOV 2014)” and adding “(APR 2019)” in its place; and

b. In paragraph (a) removing “Buy American Act” and adding “Buy American” in its place.

[FR Doc. 2019-06254 Filed 3-29-19; 8:45 am]

BILLING CODE 5001-06-P